DEPARTMENT OF AGRICULTURE

Performance Review Board Appointments

AGENCY: Office of Human Resource Management, Departmental Management.

ACTION: Notice of Appointment.

SUMMARY: This notice announces the appointment of the members of the Senior Executive Service (SES) and Senior Level (SL) and Scientific or Professional (ST) Performance Review Boards (PRBs) for the Department of Agriculture, as required by 5 U.S.C. 4314(c)(4). The Department of Agriculture has a total of seven PRBs: The Secretary's PRB; Career Agency Head's PRB; Departmental Management and Staff Offices PRB; Natural Resources and Environment PRB; Farm and Foreign Agricultural Services, Rural Development, Food, Nutrition and Consumer Services PRB; Marketing and Regulatory Programs, Food Safety PRB; and Research, Education, and Economics PRB. The PRBs are comprised of career and noncareer executives and chairpersons, who make recommendations on the performance of executives to the Secretary, including performance ratings and bonuses for SES, SL, and ST employees. The boards meet annually to review and evaluate performance appraisal documents and provide written recommendations to the Secretary for final approval of performance ratings and base salary increases.

SUPPLEMENTARY INFORMATION: In accordance with 5 U.S.C. 4314(c)(4), the following executives may be appointed by mission areas to the USDA PRBs:

Office of the Secretary

Baening, Brian; Bittleman, Sarah; Bonnie, Robert Farrell; Gonzales, Oscar; Gutter, Karis T.; Harden, Krysta.; Hipp, Janie; Holtzman, Max T.; Jett, Carole E.; Jones, Carmen; MacMillan, Anne; Mande, Jerold; Palmieri, Suzanne; Willis, Brandon L.; Wright, Ann.

Departmental Management and Staff Offices

Parham, Gregory L., Armstrong, Kent W.; Bange, Gerald A.; Baumes, Harry S.; Bender, Stuart; Bice, Donald; Black, David O.; Brady, Terence M.; Brewer, John; Bumbary-Langston, Inga P.; Chasteen, G. Taylor; Christian, Lisa A.; Clanton, Michael W.; Coffee, Richard; Farington, Kim S.; Foster, Andrea L.; Glauber, Joseph; Grahn, David P.; Hawk, Gilbert; Heard, Robin; Hobbs, Alma; Hohenstein, William G.; Holladay, Jon; Jackson, Yvonne T.; Jenson, William; Johansson, Robert C.; Jones, Diem-Linh; Kelly, Janet Karlease; Leland, Arlean; Leonard, Joe; Linden, Ralph A.; Lowe, Christopher S.; Lowe, Stephen O.; Maddux, Sheryl; McClam, Charles; Messmore, Karen; Milton, William; Moulton, Robert Jeffrey; Paul, Matt; Parker, Carolyn C.; Pfaeffle, Frederick; Repass, Todd; Romero, Ramona; Ruiz, Carl-Martin; Shearer, David P.; Speed, Randy L.; Turner, Calvin; Vos, John P.; Wallace, Charles; Walsh, Thomas M.; Watts, Michael; White, John S.; White, Sharmian L.; Wilburn, Curtis; Wilusz, Lisa; Young, Benjamin; Young, Mike; Zehren, Christopher J.

Marketing and Regulatory Programs

Avalos, Ed; Blue, Rebecca A.; Walsh, Joan L.

Agricultural Marketing Service

Bailey, Douglas; Barnes, Rex; Coale, Dana; Earnest, Darryl; Epstein, Robert; Guo, Ruihong; McCullough, Catherine; McEvoy, Miles; Morris, Craig; Neal, Arthur; Shipman, David.

Animal and Plant Health Inspection Service

Bech, Rebecca; Berger, Philip; Brown, Charles; Clark, Larry; Clay, William; Clifford, John; Davidson, Mark L.; Diaz-Soltero, Hilda; Dick, Jere; Diez, Jose; El Lissy, Osama A.; Firko, Michael J.; Gipson, Chester; Granger, Larry; Green, Jeffrey; Gregoire, Michael; Harabin, Victor; Hill, Jr., Richard; Hoffman, Neil E.; Holland, Marilyn; Huttenlocker, Robert; Jones, Bethany; Kaplan, David; Lautner, Elizabeth; Levings, Randall L.; McCammon, Sally L.; McCluskey, Brian; Mendoza, Jr., Martin; Morgan, Andrea; Munno, Joanne; Myers, Thomas; Purcell, Roberta; Shea, A. Kevin; Shere, Jack; Simmons, Beverly; Smith, Cynthia; Thiermann, Alejandro B.; Watson, Michael T.; Wiggins, Marsha A.; Zakarka, Christine.

Grain Inspection, Packers and Stockyards Administration

Alonzo, Mary C.; Christian, Alan; Jones, Randall; Mitchell, Lawrence W.

Food Safety

Hagen, Elisabeth; Ronholm, Brian; Almanza, Alfred; Basu, Parthapratim; Blake, Carol L.; Chen, Vivian; Dearfield, Kerry L.; Derfler, Philip; Edelstein, Rachel; Engeljohn, Daniel; Esteban, Jose Emilio; Garcia, Joseph L.; Gilmore, Keith Allyn; Kelley, Lynda Collins; Jones, Ronald; Mian, Haroon S.; Myers, Jacqueline; Nintemann, Terri; Roth, Jane; Sidrak, Hany Z.; Smith, William; Stevens, Janet; Stuck, Karen; Tawadrous, Armia.

Farm and Foreign Agricultural Services

Scuse, Michael; Vetter, Darci.

Foreign Agricultural Service

Foster, Christian; Quick, Bryce; Nuzum, Janet; Riemenschneider, Robert; Sheikh, Patricia.

Farm Service Agency

Beyerhelm, Christopher; Garcia, Juan M.; Gwinn, James; Harwood, Joy; Monahan, James; Nelson, Bruce; Stephenson, Robert; Thompson, Candace; Trimm, Alan; Ward, Bruce Edward; Ware, Heidi Grace.

Risk Management Agency

Alston, Michael; Hand, Michael; Leach, Barbara; Murphy, William; Nelson, Leiann H.; Witt, Timothy; Worth, Thomas W.

Food, Nutrition and Consumer Services

Anand, Rajen; Arena-DeRosa, James; Arnette, Donald; Bailey, Jr., Robin David; Barnes, Darlene; Burr, David Glenn; Carlson, Steven; Concannon, Kevin; Dombroski, Patricia; Holden, Ollice; Jackson, Yvette S.; Kane, Deborah J.; Ludwig, William; Ng, Allen; O'Connor, Thomas; Pino, Lisa; Rowe, Audrey; Shahin, Jessica; Thornton, Jane; Tribiano, Jeffrey.

Rural Development

Tonsager Dallas; Cook, Cheryl; O'Brien, Doug.

Rural Business Service

Canales, Judith Ann; Hadjy, Pandor; Parker, Chadwick O.; Wiley, Curtis A.

Rural Housing Service

Allen, Joyce; Banegas, Ronald; Davis, Richard A.; Glendenning, Roger; Hannah, Thomas; Hooper, Bryan; Ross, Robert; Trevino, Tammye.

Rural Utilities Service

Ackerman, Kenneth; Adelstein, Jonathan S.; Bojes, Gary; Elgohary, Nivin; Newby, James; Ponti-Lazaruk, Jacqueline; Villano, David; Zufolo, Jessica.

Natural Resources and Environment

Sherman, Harris; Blazer, Arthur; Mills, Ann C.

Forest Service

Agpaoa, Elizabeth; Atkinson, Kathleen; Bedwell, James; Bisson, Peter A.; Blount, Emilee; Bryant, Arthur; Bytnerowicz, Andrzej; Christiansen, Victoria; Cleaves, David A.; Cohen, Warren Bruce; Coleman, Angela V.; Connaughton, Kent P.; Cordell, Harold K.; Cullen, Daniel; DeCoster, Timothy P.; Dixon, Antione; Doudrick, Robert; Eav, Bov B.; Ferguson, Tony; Ferrell, David L.; Forsgren, Harvey L.; Foster, George S.; Grant, Gordon E.; Guldin, Richard; Hammel, Kenneth E.; Harbour, Thomas C.; Hubbard, James E.; Iverson, Louis R.; Jeffries, Thomas W.; Jiron, Daniel J.; Joyner, Calvin N.; Krueger, Faye L.; Lago, Jacquelyn L.; Lemly, A. Dennis; Lugo, Ariel E.; Mangold, Robert D.; McGuire, Jennifer; Meinzer, Frederick C.; Mezainis, Valdis E.; Moore, Randy; Muse, Debra A.; Myers, Jr., Charles L., Nash, Douglas R.; Newman, Corbin L.; Pena, James M.; Pendleton, Beth G.; Peterson, David L.; Phipps, John E.; Rains, Michael T.; Raphael, Martin G.; Reaves, Jimmy L.; Richmond, Charles S.; Ries, Paul F.; Rodriguez-Franco, Carlos; Ross, Robert J.; Ryan, Michael G.; Sears, George A.; Shortle, Walter C.; Smith, Gregory C.; Spies, Thomas A.; Stouder, Deanna J.; Strong, Thelma J.; Thompson, Robin L.; Thompson III, Frank R.; Tidwell, Thomas; Tooke, Tony; Wagner, Mary A.; Weldon, Leslie; West, Cynthia D.; Zimmermann, Anne J.

Natural Resources Conservation Service

Boozer, Astor F.; Christensen, Thomas; Erickson, Terrell; Gelburd, Diane; Golden, Michael; Herbert, Noller; Honeycutt, C. Wayne; Hubbs, Michael; Jordan, Leonard; Kramer, Anthony; Kunze, Stephen; Laur, Michele; Perry, Janet; Reed, Lesia; Salinas, Salvador; Speight, Eloris; Washington, Gary; Weller, Jason; White, Dave.

Research, Education and Economics

Bartuska, Ann; Woteki, Catherine.

Agricultural Research Service

Allen, Lindsay; Arnold, Jeffrey G.; Baldus, Lisa; Brennan, Deborah; Brenner, Richard; Bretting, Peter K.; Chandler, Laurence; Cleveland, Thomas; Collins, Wanda; Cregan, Perry B.; Erhan, Sevin; Fayer, Ronald; Gay, Cyril G.; Gibson, Paul; Gonsalves, Dennis; Gottwald, Timothy R.; Hackett, Kevin J.; Hammond, Andrew; Hatfield, Jerry L.; Hefferan, Colien; Huber, Steven C.; Hunt, Patrick G.; Jackson, Thomas J.; Jacobs-Young, Chavonda; Jenkins, Johnie Norton; Kappes, Steven; King, Jr., Edgar; Klesius, Phillip Harry; Knipling, Edward; Kochian, Leon V.; Kretsch, Mary; Kunickis, Sheryl; Lillehoj, Hyun S.; Lindsay, James A.; Liu, Simon; Loper, Joyce E.; Matteri, Robert; Mattoo, Autar K.; McGuire, Michael; McMurtry, John; Narang, Sudhir; Ort, Donald R.; Pollak, Emil; Rango, Albert; Rexroad, Jr., Caird; Riley, Ronald T.; Sebesta, Paul; Shafer, Steven; Simmons, Mary W., Smith, Timothy P.; Spence, Joseph; Suarez, David Lee; Swietlik, Dariusz; Tu, Shu-I; Upchurch, Dan; Vance, Carroll P.; Vogel, Kenneth P.; Willett, Julious L.; Yates, Allison; Zhang, Howard; Zuelke, Kurt.

Economic Research Service

Bianchi, Ronald; Bohman, Mary.

National Agricultural Statistics Service

Barnes, Kevin L.; Bass, Robert; Bennett, Norman; Clark, Cynthia; Hamer, Jr., Hubert; Harris, James Mark; Klurfeld, Roger J.; Parsons, Joseph L.; Picanso, Robin; Prusacki, Joseph; Reilly, Joseph.

National Institute of Food and Agriculture

Boteler, Franklin; Brandon, Andrea; Broussard, Meryl; Desbois, Michel; Holland, Robert E.; Otto, Ralph; Qureshi, Muquarrab A.; Ramaswamy, Sonny; Sheely, Deborah.

DATES: Effective November 5, 2012 through November 23, 2012.

FOR FURTHER INFORMATION CONTACT: Karen Messmore, Director, Office of Human Resources Management, telephone: (202) 690-2994, email: karen.messmore@dm.usda.gov or Patricia Moore, Director, Executive Resources Management Division, telephone: (202) 720-8629, email: patty.moore@dm.usda.gov.

Dated: October 9, 2012.
Thomas J. Vilsack,
Secretary.

[FR Doc. 2012-25246 Filed 10-12-12; 8:45 am]

BILLING CODE 3410-96-P